DEPARTMENT OF TRANSPORTATION

Federal Aviation Administration

[Docket No. FAA-2009-0924]

Airport Compliance Program

AGENCY: Department of Transportation, Federal Aviation Administration.

ACTION: Notice of availability of FAA Order 5190.6B, Airport Compliance Manual.

SUMMARY: This notice announces the availability of FAA Order 5190.6B, Airport Compliance Manual, issued September 30, 2009. Order 5190.6B cancels and replaces Order 5190.6A, Airport Compliance Requirements, issued on October 2, 1989. Order 5190.6B provides current guidance to FAA employees on administration and implementation of the FAA airport compliance program. This program implements FAA's responsibilities for the enforcement of the obligations of airport operators to the United States Government arising from FAA grant agreements and from federal deeds of property for airport use. The order updates cancelled Order 5190.6A by reflecting statutes, policy changes, case decisions and complaint resolution procedural rules issued since 1989 and by including more specific guidance material on a number of compliance subjects. FAA orders are intended for the use of FAA employees.

DATES: FAA Order 5190.6B was issued on September 30, 2009 and was effective upon issuance. Comments received by March 31, 2010 will be considered by the agency in a determination whether any further revision of the order is required.

ADDRESSES: You can get an electronic copy of FAA Order 5190.6B on the FAA Airports Web site at http://www.faa.gov/airports/resources/publications/orders/compliance_5190.6/.

You may send comments identified by Docket Number, FAA-2009-0924 using any of the following methods:

• Federal eRulemaking Portal: Go to http://www.regulations.gov and follow the instructions for sending your comments electronically.

• Mail: Docket Operations, U.S. Department of Transportation, West Building, Ground Floor, Room W12-140, Routing Symbol M-30, 1200 New Jersey Avenue, SE., Washington, DC 20590.

• Fax: 1-202-493-2251.

• Hand Delivery: To Docket Operations, Room W12-140 on the ground floor of the West Building, 1200 New Jersey Avenue, SE., Washington, DC 20590; between 9 a.m. and 5 p.m., Monday through Friday, except Federal holidays.

For more information on the notice and comment process, see the SUPPLEMENTARY INFORMATION section of this document. Privacy: We will post all comments we receive, without change, to http://www.regulations.gov, including any personal information you provide. For more information, see the Privacy Act discussion in the SUPPLEMENTARY INFORMATION section of this document. Docket: To read background documents or comments received, go to http://www.regulations.gov at any time or to Room W12-140 on the ground floor of the West Building, 1200 New Jersey Avenue, SE., Washington, DC, between 9 a.m. and 5 p.m., Monday through Friday, except Federal holidays.

FOR FURTHER INFORMATION CONTACT: Charles Erhard, Manager, Airport Compliance Division, ACO-100, Federal Aviation Administration, 800 Independence Avenue SW., Washington, DC 20591, telephone (202) 267-3187; facsimile: (202) 267-5769; e-mail: charles.erhard@faa.gov.

SUPPLEMENTARY INFORMATION:

Availability of Documents

You can get an electronic copy of this notice and all other documents in this docket using the Internet by:

(1) Searching the Federal eRulemaking portal (http://www.regulations.gov/search);

(2) Visiting the FAA's Regulations and Policies web page at http://www.faa.gov/regulations_policies.

Background

Order 5190.6, Airport Compliance Requirements, was issued on August 24, 1973. Order 5190.6 was cancelled and replaced by Order 5190.6A, Airport Compliance Requirements, on October 2, 1989. Each of these orders, while it was in effect, served as the handbook or manual for FAA employees responsible for monitoring and enforcing the compliance of airport operators with obligations to the federal government. Those obligations most commonly arise from conditions, or assurances, contained in agreements with the FAA for grants in aid to airports, and from the terms in deeds of property transferred by the federal government for airport use.

The current FAA airport grant program is the Airport Improvement Program (AIP), established by the Airport and Airway Improvement Act of 1982 as amended, 49 U.S.C. 47101 et seq. (AAIA). Section 47107 requires the Secretary of Transportation to obtain certain assurances from an airport operator as a condition of receiving a grant under the AIP. The FAA implements this requirement with a standard set of grant assurances for airport sponsors, which can be viewed on the FAA Airports Web site at: http://www.faa.gov/airports/aip/grant_assurances/.

An airport operator may also have Federal obligations under a deed of property transferred under the Surplus Property Act of 1944, as amended, 49 U.S.C. 47151-47153, or the Federal Airports Act of 1946, as amended, 49 U.S.C. 47125.

Since 1989, there have been substantial changes to the laws and policies relating to the Federal obligations of airport operators, and also changes to the procedures for investigating and resolving complaints over apparent noncompliance. These changes include:

• New statutory direction on airport rates and charges and on the use of airport revenue, 49 U.S.C. 47107(k) through (p), 47129, and 47133.

• The DOT Policy Regarding the Establishment of Airport Rates and Charges in 1996, as partially voided by a decision of the U.S. court of appeals in 1997 and revised by an agency amendment in 2008;

• Rules of Practice for Federally Assisted Airport Enforcement Proceedings, 14 CFR Part 16, issued in 1996;

• The FAA Policy and Procedures Concerning the Use of Airport Revenue, issued in 1999;

• Enactment of 49 U.S.C. 47134, establishing a pilot program for airport privatization;

• More than 105 determinations issued under 14 CFR Part 16 by the FAA Office of Airport Safety and Standards, the Office of Compliance and Operations, and the Associate Administrator for Airports, as well as decisions by the U.S. Court of Appeals on petitions for review of agency determinations.

To incorporate these changes and provide the most useful and current program guidance to agency employees, the Office of Compliance and Field Operations has updated and revised the manual, and issued the new manual as Order 5190.6B on September 30, 2009.

Request for Public Comment

Order 5190.6B became effective when issued, and FAA employees are using the order as the primary manual for implementation of the FAA airport compliance program. The FAA expects that future changes to the manual may be necessary to reflect new decisions by federal courts, amendments to the agency's authorizing statutes, and the Associate Administrator for Airports' interpretations of agency policy in case determinations issued under 14 CFR part 16. For that reason the agency plans periodic reviews of the manual, with the first review being approximately one year after the issuance date, in September 2010.

While the FAA generally does not request public comment on internal orders, the agency has established a docket for public comments on Order 5190.6B in recognition of the interest of all segments of the airport community in the FAA's airport compliance program. The agency will consider all comments received by March 31, 2010, in this first review of Order 5190.6B. Comments received after that date may be considered if consideration will not delay agency action on the review. The purpose of the review will be to ensure that the summaries of agency policy in the order accurately reflect the current legal authorities that define an airport operator's obligations. Comments that address that purpose will be the most useful to the agency in its review.

Notice of availability

Order 5190.6B, Airport Compliance Manual, issued September 30, 2009 is available for review and downloading from the FAA Airports Web site at: http://www.faa.gov/airports/resources/publications/orders/compliance_5190.6.

Issued in Washington, DC on October 1, 2009.
Randall S. Fiertz,
Director, Office of Compliance and Field Operations.

[FR Doc. E9-24627 Filed 10-9-09; 8:45 am]

BILLING CODE 4910-13-P